DEPARTMENT OF ENERGY

Federal Energy Regulatory Commission

Combined Notice of Filings #1

Take notice that the Commission received the following electric corporate filings:

Docket Numbers: EC22-8-000.

Applicants: Gibson City Energy Center, LLC, Shelby County Energy Center, LLC, Southern Illinois Generation Company, LLC, Tilton Energy LLC.

Description: Application for Authorization Under Section 203 of the Federal Power Act of Gibson City Energy Center, LLC, et al. and request for Expedited Action by December 23, 2021.

Filed Date: 10/22/21.

Accession Number: 20211022-5192.

Comment Date: 5 p.m. ET 11/12/21.

Docket Numbers: EC22-9-000.

Applicants: Borderlands Wind, LLC, Cool Springs Solar, LLC, Dodge Flat Solar, LLC, Elora Solar, LLC, Ensign Wind Energy, LLC, Fish Springs Ranch Solar, LLC, Irish Creek Wind, LLC, Minco Wind Energy III, LLC, Minco IV & V Interconnection, LLC, Quinebaug Solar, LLC, Quitman II Solar, LLC, NEP US SellCo II, LLC, NextEra Energy Partners Acquisitions, LLC.

Description: Application for Authorization Under Section 203 of the Federal Power Act of Borderlands Wind, LLC, et al.

Filed Date: 10/22/21.

Accession Number: 20211022-5196.

Comment Date: 5 p.m. ET 11/12/21.

Take notice that the Commission received the following electric rate filings:

Docket Numbers: ER10-3297-016.

Applicants: Powerex Corporation.

Description: Notice of Non-Material Change in Status of Powerex Corp.

Filed Date: 10/22/21.

Accession Number: 20211022-5202.

Comment Date: 5 p.m. ET 11/12/21.

Docket Numbers: ER20-116-000; ER20-67-000; ER20-113-000.

Applicants: Evergy Missouri West, Inc., Evergy Kansas Central, Inc., Evergy Metro, Inc.

Description: Response to September 22, 2021 Deficiency Letter of Evergy Kansas Central, Inc., et al.

Filed Date: 10/22/21.

Accession Number: 20211022-5203.

Comment Date: 5 p.m. ET 11/12/21.

Docket Numbers: ER21-2562-001.

Applicants: Southwest Power Pool, Inc.

Description: Tariff Amendment: Deficiency Response in ER21-2562—Revisions to DISIS Process to be effective 10/1/2021.

Filed Date: 10/25/21.

Accession Number: 20211025-5036.

Comment Date: 5 p.m. ET 11/15/21.

Docket Numbers: ER22-193-000.

Applicants: Southwest Power Pool, Inc.

Description: § 205(d) Rate Filing: 3866 City of Garden City KS & Sunflower Interconnection Agreement to be effective 12/31/9998.

Filed Date: 10/22/21.

Accession Number: 20211022-5184.

Comment Date: 5 p.m. ET 11/12/21.

Docket Numbers: ER22-194-000.

Applicants: Tri-State Generation and Transmission Association, Inc.

Description: § 205(d) Rate Filing: Initial Filing of Rate Schedule No. 336 to be effective 10/26/2021.

Filed Date: 10/25/21.

Accession Number: 20211025-5050.

Comment Date: 5 p.m. ET 11/15/21.

Docket Numbers: ER22-195-000.

Applicants: Tri-State Generation and Transmission Association, Inc.

Description: § 205(d) Rate Filing: Amendment to Service Agreement No. 894 to be effective 10/21/2021.

Filed Date: 10/25/21.

Accession Number: 20211025-5055.

Comment Date: 5 p.m. ET 11/15/21.

Docket Numbers: ER22-196-000.

Applicants: Portland General Electric Company.

Description: § 205(d) Rate Filing: Att K Revision Filing to be effective 1/1/2022.

Filed Date: 10/25/21.

Accession Number: 20211025-5056.

Comment Date: 5 p.m. ET 11/15/21.

Docket Numbers: ER22-197-000.

Applicants: Basin Electric Power Cooperative.

Description: Tariff Amendment: Basin Electric Notice of Cancellation of Service Agreements 3, 8, 10, 11, & 12 to be effective 12/25/2021.

Filed Date: 10/25/21.

Accession Number: 20211025-5057.

Comment Date: 5 p.m. ET 11/15/21.

Docket Numbers: ER22-198-000.

Applicants: Consolidated Edison Company of New York, Inc., New York Independent System Operator, Inc.

Description: § 205(d) Rate Filing: Consolidated Edison Company of New York, Inc. submits tariff filing per 35.13(a)(2)(iii: Joint 205: LGIA among NYISO, Con Edison, NRG. 2nd Amended Restated SA2535 to be effective 10/8/2021.

Filed Date: 10/25/21.

Accession Number: 20211025-5075.

Comment Date: 5 p.m. ET 11/15/21.

Docket Numbers: ER22-199-000.

Applicants: Midcontinent Independent System Operator, Inc.

Description: § 205(d) Rate Filing: 2021-10-25_SA 3528 UE-Evergy MO 1st Rev IA Certificate of Concurrence to be effective 12/21/2021.

Filed Date: 10/25/21.

Accession Number: 20211025-5082.

Comment Date: 5 p.m. ET 11/15/21.

Docket Numbers: ER22-202-000.

Applicants: PJM Interconnection, L.L.C.

Description: § 205(d) Rate Filing: Original ISA, Service Agreement No. 6206; Queue No. AE1-196 to be effective 9/23/2021.

Filed Date: 10/25/21.

Accession Number: 20211025-5100.

Comment Date: 5 p.m. ET 11/15/21.

Take notice that the Commission received the following electric securities filings:

Docket Numbers: ES22-15-000.

Applicants: Kingsport Power Company.

Description: Application Under Section 204 of the Federal Power Act for Authorization to Issue Securities of Kingsport Power Company.

Filed Date: 10/22/21.

Accession Number: 20211022-5190.

Comment Date: 5 p.m. ET 11/12/21.

Docket Numbers: ES22-16-000.

Applicants: AEP Texas Inc.

Description: Application Under Section 204 of the Federal Power Act for Authorization to Issue Securities of AEP Texas Inc.

Filed Date: 10/22/21.

Accession Number: 20211022-5191.

Comment Date: 5 p.m. ET 11/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2021.
Debbie-Anne A. Reese,
Deputy Secretary.

[FR Doc. 2021-23621 Filed 10-28-21; 8:45 am]

BILLING CODE 6717-01-P